FEDERAL COMMUNICATIONS COMMISSION

[OMB 3060-xxxx]

Information Collection Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before August 10, 2017. If you anticipate that you will be submitting comments, but find it difficult to do so within the period of time allowed by this notice, you should advise the contacts listed below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control No.: 3060-xxxx.

Title: Section 97.303(g)(2), Notification Requirement.

Form No.: N/A.

Type of Review: New collection.

Respondents: Individuals or households.

Number of Respondents and Responses: 1,000 respondents and 1,000 responses.

Estimated Time per Response: 10 minutes (0.167 hours).

Frequency of Response: Third party disclosure requirement.

Obligation to Respond: Required to obtain or retain benefits. The statutory authority for this collection is contained 47 U.S.C. 154(i), 161, 301, 302, 303(e), 303(f), 303(r), 304, 307 and 332(b).

Total Annual Burden: 167 hours.

Total Annual Cost: No cost.

Privacy Act Impact Assessment: No impact(s).

Nature and Extent of Confidentiality: There is no need for confidentiality with this collection of information.

Needs and Uses: On March 29, 2017 the Federal Communications Commission released a Report and Order, Amendment of Parts 2, 15, 80, 90, 97, and 101 of the Commission's Rules Regarding Implementation of the Final Acts of the World Radiocommunication Conference (Geneva, 2012) (WRC-12), Other Allocation Issues, and Related Rule Updates, ET Docket No. 15-99, FCC 17-33, which inter alia, amends the Commission's rules for the Amateur Radio Service to provide for frequency sharing requirements in the 135.7-137.8 kHz (2200 meter) and 472-479 kHz (630 meter) bands. These rules will ensure the compatibility of amateur radio operations and Power Line Carrier (PLC) systems that operate in these bands, and will promote the shared use of these bands. As background, in the larger 9-490 kHz band, electric utilities operate PLC systems on power transmission lines for communications important to the reliability and security of electric service to the public. The Commission found that the identification of transmission lines are not always readily identifiable and that amateur operators may not be able to determine whether PLC systems operate in the relevant bands on the subject transmission lines. For these reasons, the Commission adopted a notification process to ensure that amateur stations seeking to operate in these bands are located outside of a minimum separation distance.

Specifically, the information collection requirements contained in Section 97.303(g)(2) requires prior to commencement of operations in these bands, amateur operators must notify the Utilities Telecom Council (UTC) of their intent by submitting their call signs, intended band or bands of operation, and the coordinates of their antenna's fixed location.

Amateur stations will be permitted to commence operations after a 30-day period unless UTC notifies the applicant that its requested location is located within one kilometer of PLC systems operating in the same or overlapping frequencies.

Federal Communications Commission.
Katura Jackson,
Federal Register Liaison Officer.

[FR Doc. 2017-14461 Filed 7-10-17; 8:45 am]

BILLING CODE 6712-01-P